GENERAL SERVICES ADMINISTRATION

[Notice-PBS-2018-04; Docket No. 2018-0002; Sequence No. 19]

Notice of Intent To Prepare a Supplemental Environmental Impact Statement (SEIS) for the Sale of the Plum Island and an Ancillary Support Facility at Orient Point, New York

AGENCY: Office of Real Property Utilization & Disposal, General Services Administration (GSA).

ACTION: Notice of intent.

SUMMARY: The U.S. General Services Administration (GSA) as the operational Joint Lead Agency, announces its Notice of Intent (NOI) to prepare a Supplemental Environmental Impact Statement (SEIS) for the sale of Plum Island, New York and an ancillary support facility at Orient Point, New York (hereinafter collectively referred to as Plum Island). That sale is now anticipated to occur no sooner than 2023. The U.S. Department of Homeland Security (DHS) will act as a Joint Lead Agency in ongoing consultation with GSA for the NEPA and associated regulatory compliance activities. The SEIS prepared during this process will supersede the Final EIS (FEIS) issued on June 25, 2013. After publication of the SEIS, a new Record of Decision (ROD) will be issued to supersede the ROD issued on August 29, 2013.

FOR FURTHER INFORMATION CONTACT: Mr. John L.A. Dugan, Real Property Utilization & Disposal Division, General Services Administration, 10 Causeway Street, Room 1100, Boston, MA 02222, or email john.dugan@gsa.gov.

SUPPLEMENTARY INFORMATION:

Description

Plum Island is an 840-acre island located approximately 1.5 miles off the northeast tip of Orient Point, Long Island, New York. Plum Island is formerly the home of the U.S. Army's Fort Terry, and was transferred to the United States Department of Agriculture (USDA) in 1954 to establish a research facility for foot-and-mouth disease. In 2003, Plum Island was transferred to DHS, and DHS now, in cooperation with the USDA, operates Plum Island Animal Disease Center (PIADC). In addition to the buildings and facilities that support the PIADC mission, other assets on Plum Island include natural undeveloped land, the Plum Island Lighthouse constructed in 1869, and buildings and structures associated with the former Fort Terry.

Statutory Authority

Pursuant to the requirements of the National Environmental Policy Act of 1969 (NEPA), and the President's Council on Environmental Quality Regulations (40 CFR 1500-1508), as implemented by the GSA Order PBS P 1095.4C, GSA and DHS will prepare the SEIS for the sale of Plum Island. The sale is mandated in Section 540 of the Consolidated Security, Disaster Assistance, and Continuing Appropriations Act of 2009, United States Public Law 110-329. United States Public Law 110-329 requires the Secretary of the DHS to liquidate the Plum Island asset by directing the Administrator of the GSA to sell through public sale all real and related personal property and transportation assets which support Plum Island operations, subject to such terms and conditions as necessary to protect government interests and meet program requirements. The Public Law mandates the public sale as a result of the determination by DHS to construct and operate a new National Bio and Agro Defense Facility (NBAF) in Manhattan, Kansas and move its operations to the NBAF (Record of Decision dated January 16, 2009).

Background

The purpose of the SEIS will be to document conditions that have changed and new information that has become available since the publication of the FEIS and ROD, and will provide a thorough analysis of those conditions and the new information. Items to be studied and analyzed in the SEIS will include, but are not limited to the following: The biological inventory known as the “Biodiversity and Ecological Potential of Plum Island, New York”, also known as the Four-Seasons Study; any activities undertaken by the U.S. Fish and Wildlife Service on Plum Island; the zoning plan for Plum Island adopted by the Town of Southold in August 2013; the completion by DHS of a descriptive interpretation of Plum Island's environmental condition, known as a Conceptual Site Model; ongoing environmental remediation and mission closure activities by DHS; activity undertaken by the Army Corps of Engineers under the Formerly Used Defense Site program; progress by DHS under Section 110 of the National Historic Preservation Act; and, the availability of more definitive dates for the transfer of the PIADC mission off Plum Island and the sale of Plum Island.

The Joint Lead Agencies anticipate scoping for the SEIS will begin in 2019. When the scoping process is initiated, a notice will be posted in the Federal Register and sent to interested parties including those who commented on the prior NEPA process that concluded with the issuance of the ROD dated August 29, 2013. The agencies anticipate that in addition to preparing a SEIS, the Federal Consistency Review process under the Coastal Zone Management Act and any applicable requirements of the Endangered Species Act will be addressed. After the scoping is completed, a SEIS will incorporate findings from the FEIS, and further document and analyze conditions that have changed, and new information that has become available, since the publication of the FEIS and ROD. The SEIS will identify potentially significant direct, indirect, and cumulative impacts on historical and biological resources, land use, air quality, water quality, water resources, and socioeconomics, as well as other environmental issues that could occur as a result of the proposed action. For potentially significant impacts, the SEIS may identify avoidance, minimization, or mitigation measures to reduce these impacts, where feasible. Once published, the SEIS will supersede the FEIS and ROD issued in 2013.

August 6, 2018
Barbara J. Salfity,
Branch Chief, Real Property Utilization & Disposal Division, General Services Administration.

[FR Doc. 2018-17212 Filed 8-9-18; 8:45 am]

BILLING CODE 6820-51-P